DEPARTMENT OF TRANSPORTATION

Federal Aviation Administration

14 CFR Part 71

[Docket No. FAA-2010-0651; Airspace Docket No. 10-ANM-7]

Amendment of Class D and Class E Airspace; Klamath Falls, OR

AGENCY: Federal Aviation Administration (FAA), DOT.

ACTION: Final rule.

SUMMARY: This action will amend Class D and Class E airspace at Klamath Falls, OR. Decommissioning of the Merrill Non-Directional Radio Beacon (NDB) at Klamath Falls Airport has made this action necessary for the safety and management of Instrument Flight Rules (IFR) operations at the airport. This action also will adjust the geographic coordinates of the airport and a navigation aid, and will change the name of the airport.

DATES: Effective Date: 0901 UTC, January 13, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On August 16, 2010, the FAA published in the Federal Register a notice of proposed rulemaking to amend controlled airspace at Klamath Falls, OR (75 FR 49866). Interested parties were invited to participate in this rulemaking effort by submitting written comments on the proposal to the FAA. No comments were received.

Class D and Class E airspace designations are published in paragraph 5000, 6002, 6004 and 6005, respectively, of FAA Order 7400.9U dated August 18, 2010, and effective September 15, 2010, which is incorporated by reference in 14 CFR 71.1. The Class D and Class E airspace designations listed in this document will be published subsequently in that Order.

The Rule

This action amends Title 14 Code of Federal Regulations (14 CFR) Part 71 by amending Class E airspace extending upward from 700 feet above the surface at Klamath Falls Airport, Klamath Falls, OR. Decommissioning of the Merrill NDB and cancellation of the NDB approach has made this action necessary for the safety and management of IFR operations at the airport. The geographic coordinates of the Klamath Falls Airport, and the Klamath Falls VHF Omni-Directional Radio Range Tactical Air Navigation Aid (VORTAC), listed in the descriptions of the Class D and Class E airspace areas, will be adjusted in accordance with the FAA's National Aeronautical Navigation Services (NANS). The airport name will be corrected from Klamath Falls International Airport to Klamath Falls Airport.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Klamath Falls Airport, Klamath Falls, OR.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 5000 Class D Airspace.

* * * * *

ANM OR D Klamath Falls, OR [Amended]

Klamath Falls Airport, OR

(Lat. 42°09′22″ N., long. 121°44′00″ W.)

That airspace extending upward from the surface to and including 6,600 feet MSL within a 5.4-mile radius of Klamath Falls Airport. This Class D airspace area is effective during the specific dates and times established in advance by a Notice to Airmen. The effective date and time will thereafter be continuously published in the Airport/Facility Directory.

Paragraph 6002 Class E Airspace Designated as Surface Areas.

* * * * *

ANM OR E2 Klamath Falls, OR [Amended]

Klamath Falls Airport, OR

(Lat. 42°09′22″ N., long. 121°44′00″ W.)

Within a 5.4-mile radius of Klamath Falls Airport. This Class E airspace area is effective during the specific dates and times established in advance by a Notice to Airmen. The effective date and time will thereafter be continuously published in the Airport/Facility Directory.

Paragraph 6004 Class E Airspace Designated as an Extension to a Class D Surface Area.

* * * * *

ANM OR E4 Klamath Falls, OR [Amended]

Klamath Falls Airport, OR

(Lat. 42°09′22″ N., long. 121°44′00″ W.)

Klamath Falls VORTAC

(Lat. 42°09′11″ N., long. 121°43′39″ W.)

That airspace extending upward from the surface within 3.5 miles east and 1.8 miles west of the Klamath Falls VORTAC 171° radial extending from the 5.4-mile radius of Klamath Falls Airport to 7.4 miles south of the VORTAC, and within 1.8 miles each side of the Klamath Falls VORTAC 332° radial extending from the 5.4-mile radius of the airport to 9.6 miles northwest of the VORTAC.

Paragraph 6005 Class E Airspace Areas Extending Upward From 700 Feet or More Above the Surface of the Earth.

* * * * *

ANM OR E5 Klamath Falls, OR [Modified]

Klamath Falls Airport, OR

(Lat. 42°09′22″ N., long. 121°44′00″ W.)

That airspace extending upward from 700 feet above the surface within a 13.1-mile radius of Klamath Falls Airport, and within 4.3 miles east and 8.3 miles west of the 158° bearing from the airport extending from the 13.1-mile radius to 27.2 miles south of the airport; that airspace extending upward from 1,200 feet above the surface between the 13.1-mile radius and the 21.8-mile radius of the Klamath Falls Airport; that airspace extending upward from 7,500 feet MSL within the area bounded by the 21.8-mile radius and the 34.8-mile radius of the Klamath Falls Airport extending clockwise from the airport 095° bearing to a line 4.3 miles east of and parallel to the airport 165° bearing, and within the area bounded by the 21.8-mile radius and the 34.8-mile radius of the Klamath Falls Airport extending clockwise from the airport 245° bearing to the airport 295° bearing; that airspace extending upward from 7,700 feet MSL within the area bounded by the 21.8-mile radius and the 27.9-mile radius of the Klamath Falls Airport extending clockwise from the airport 332° bearing to a line 7.9 miles northeast of and parallel to the airport 332° bearing; that airspace extending upward from 8,600 feet MSL within the area bounded by the 21.8-mile radius and the 41.8-mile radius of the Klamath Falls Airport extending clockwise from a line 4.3 miles east of and parallel to the airport 165° bearing to a line 10.1 miles west of and parallel to the airport 181° bearing; that airspace extending upward from 9,000 feet MSL within the area bounded by the 21.8-mile radius and the 34.8-mile radius of the Klamath Falls Airport extending clockwise from the airport 320° bearing to the airport 095° bearing; that airspace extending upward from 9,500 feet MSL within the area bounded by the 21.8-mile radius and the 34.8-mile radius of the Klamath Falls Airport extending clockwise from a line 10.1 miles west of and parallel to the airport 181° bearing to the airport 245° bearing, and within the area bounded by the 21.8-mile radius and the 24.4-mile radius of the Klamath Falls Airport extending clockwise from the airport 295° bearing to the airport 320° bearing; and that airspace extending from 11,000 feet MSL within the area bounded by the 24.4-mile radius and the 34.8-mile radius of the Klamath Falls Airport extending clockwise from the airport 295° bearing to the airport 320° bearing.

Issued in Seattle, Washington, on October 6, 2010.
John Warner,
Manager, Operations Support Group, Western Service Center.

[FR Doc. 2010-26091 Filed 10-15-10; 8:45 am]

BILLING CODE 4910-13-P